DEPARTMENT OF THE INTERIOR

Bureau of Land Management

[CA-338-1220-MV]

Establishment of Interim Supplementary Rules on Public Lands Within the King Range National Conservation Area Management Area, Managed by the Arcata Field Office, CA

AGENCY: Bureau of Land Management, Interior.

ACTION: Establishment of Interim Supplementary Rules with request for comments.

SUMMARY: In accordance with the Record of Decision for the King Range National Conservation Area (NCA) Approved Resource Management Plan (RMP), the Bureau of Land Management (BLM), Arcata Field Office, is issuing interim supplementary rules and requesting comments. These interim supplementary rules will apply to public lands within the King Range National Conservation Area management area, and will be effective upon publication and remain in effect until the publication of final supplementary rules. The BLM has determined these interim supplementary rules are necessary to enhance the safety of visitors, protect natural resources, improve recreation opportunities, and protect public health. These supplementary rules do not propose or implement any land use limitations or restrictions other than those included within the BLM's decisions in the King Range NCA Approved RMP, or allowed under existing law or regulation.

DATES: The interim supplementary rules are effective May 24, 2006. We invite comments until July 24, 2006.

ADDRESSES: Mail or hand deliver all comments concerning the interim supplementary rules to the Bureau of Land Management, Arcata Field Office, 1695 Heindon Road, Arcata, CA 95521; or, you may access the Federal eRulemaking Portal: http://www.regulations.gov.

FOR FURTHER INFORMATION CONTACT: Robert Wick, Planning and Environmental Coordinator, Arcata Field Office, 1695 Heindon Road, Arcata, CA 95521, 707-825-2321. e-mail: rwick@ca.blm.gov.

SUPPLEMENTARY INFORMATION:

I. Public Comment Procedures

Written comments on the interim supplementary rules should be specific, confined to issues pertinent to the interim supplementary rules, and should explain the reason for any recommended change. The Record of Decision for the King Range National Conservation Area (NCA) Resource Management Plan (RMP) was signed on May 11, 2005, and represents the final decision of the Bureau of Land Management Director regarding management of lands within the 68,000 acre management area. Therefore, comments requesting changes to the RMP decisions guiding the development of these interim supplementary rules are outside the scope of this comment period. Where possible, comments should reference the specific section or paragraph of the supplementary rule that the comment is addressing. BLM need not consider or include in the Administrative Record for the final supplementary rule: (a) Comments that BLM receives after the close of the comment period (see DATES), unless they are postmarked or electronically dated before the deadline, or (b) comments delivered to an address other than those listed above (See ADDRESSES).

You may also access and comment on the interim supplementary rules at the Federal eRulemaking Portal by following the instructions at that site (see ADDRESSES).

Comments, including names, street addresses, and other contact information of respondents, will be available for public review at the Arcata Field Office, 1695 Heindon Road, Arcata, CA 95521, during regular business hours (7:45 a.m. to 3:45 p.m.), Monday through Friday, except Federal holidays. Individual respondents may request confidentiality. If you wish to request that BLM consider withholding your name, street address, and other contact information (such as: Internet address FAX or phone number) from public review or from disclosure under the Freedom of Information Act, you must state this prominently at the beginning of your comment. BLM will honor requests for confidentiality on a case-by-case basis to the extent allowed by law. BLM will make available for public inspection in their entirety all submissions from organizations or businesses, and from individuals identifying themselves as representatives or officials of organizations or businesses.

II. Background

The BLM is establishing these interim supplementary rules under the authority of 43 CFR 8365.1-6, which allows BLM State Directors to establish supplementary rules for the protection of persons, property, and public lands and resources. This provision allows the BLM to issue supplementary rules of less than national effect without codifying the rules in the Code of Federal Regulations. Rules regarding special recreation permit requirements are established under the authority of 43 CFR part 2930. Specifically, 43 CFR 2932.11 allows BLM to require special recreation permits for non-commercial group use if this requirement is based on management planning decisions. This authority also allows BLM to require permits for individual use of “special areas” upon publication of the requirement in the Federal Register and local media. The BLM identified the King Range NCA management area as a special area for this purpose in the King Range NCA RMP.

The supplementary rules are available for inspection in the Arcata Field Office; they are posted at the King Range NCA; and they will be published in a newspaper of general circulation in the affected vicinity. The overall program authority for the operation of this area is found in the King Range Act (Pub. L. 91-476) and sections 302 and 310 of the Federal Land Policy and Management Act of 1976 (43 U.S.C. 1732, 1740). The King Range NCA is located approximately 60 miles southwest of Eureka, Humboldt County, California, within the Humboldt and Mount Diablo Meridians.

BLM finds good cause to publish these supplementary rules on an interim basis, effective the date of publication, because of public health and safety concerns and resource protection needs within the management area. A high amount of visitation occurs in the backcountry portions of the King Range NCA, specifically along the Lost Coast Trail. This has led to overcrowding of backcountry campsites and sanitation problems from large groups camped in a confined area. Also, safety concerns associated with human encounters with bears (due to improperly stored food) led to the establishment of an emergency supplementary rule requiring use of bear canisters. Bear encounters continue to occur among users who do not use the canisters, and this supplementary rule will serve to make the emergency requirement permanent. Several federally-listed threatened and endangered species are located within the area, and a number of the supplementary rules are needed to conserve critical habitat. Supplementary rules specific to Areas of Critical Environmental Concern (ACEC) are intended to protect the relevant and important resource values within these units, including old-growth forests, sensitive watersheds, dune and wetland ecosystems, and cultural sites. All supplementary rules will be effective immediately on an interim basis except for the supplementary rule requiring special recreation permits for individual visitors to the Backcountry Management Zone. This supplementary rule will be implemented upon development of a permit administration/issuance process, but no earlier than May 1, 2006. Specific information regarding how visitors can obtain permits will be announced in regional newspapers, BLM Web sites, and area information kiosks. The permits will serve to improve information dispersal to the public on visitor safety and low impact use requirements. They will also provide visitor use statistics for inclusion in developing a use allocation plan as called for in the King Range RMP.

All of the interim supplementary rules implement management decisions contained in the King Range NCA Resource Management Plan. The Arcata Field Office has taken the following steps to involve the public in developing the plan decisions that provide a basis for the interim supplementary rules:

Public Scoping: The BLM conducted five public scoping meetings in November 2002. One-hundred-and-twenty-five participants attended the meetings held in Petrolia, Garberville, Shelter Cove, Eureka, and San Francisco. The BLM also issued a press release announcing the scoping period and meetings to all media in northern California. An informational Web site was established, which was maintained throughout the effort to provide background on the planning process, announcing opportunities for public involvement, and highlighting progress on the plan. Other tools used to communicate with interested parties included a “King Range Planning Update” mailer, sent to all members of the King Range mailing list, and fliers posted on community bulletin boards in the rural region surrounding the King Range NCA.

Public Review of the Draft EIS: The draft EIS and RMP were released to the public for a 90-day comment period, ending April 16, 2004. During this review period five public meetings were held to explain the EIS and RMP to the public and to allow comment. Seventy-seven members of the public attended the meetings. Participants were given the opportunity to provide oral comments at the meetings, or to record their input on public comment forms provided by the BLM.

BLM received 862 comments on the draft RMP and EIS from the public through public meetings, electronic letters, and paper letters. Over 350 issues or “public concerns” were identified from these comments. A summary of the issues identified in the public comment letters and BLM's response to these issues is included in Chapter 5 of the Final EIS. Also, letters from organizations and public agencies are reprinted in the document. Copies of letters from individuals are available for review at the BLM Arcata Field Office. A draft of the interim supplementary rules was published as an appendix in the proposed RMP and all decisions related to the supplementary rules were analyzed in the Final EIS.

California Coastal Zone Consistency Review: The BLM presented the Proposed RMP to the California Coastal Commission. The Coastal Commission determined that the RMP, including the decisions that provide a basis for these supplementary rules, was consistent with the California Coastal Management Program.

Governor's Consistency Review: The BLM submitted the Draft RMP to the Governor's Office of Planning and Research, State Clearinghouse and Planning Unit (Document # 2004014002). No state agencies commented to the Clearinghouse, and the BLM received a letter of confirmation that the RMP complied with state review requirements on April 16, 2004. No known inconsistencies have been identified, either by the BLM or the Governor, for the RMP decisions. In addition, the California State Lands Commission has granted the BLM a permit to manage motorized use within the intertidal zone of the King Range NCA coastline, as well as the area below mean high water mark within the lower Mattole River and Estuary (where it traverses public lands).

Based on public safety and resource protection concerns, and due to the multiple opportunities for public involvement during development of the RMP decisions that provide a basis for these supplementary rules, the BLM finds good cause to issue these supplementary rules as interim supplementary rules. The public is now invited to provide additional comments on the interim supplementary rules. See the DATES and ADDRESSES sections for information on submitting comments.

III. Procedural Matters

Executive Order 12866, Regulatory Planning and Review

These interim supplementary rules are not a significant regulatory action and are not subject to review by the Office of Management and Budget under Executive Order 12866. These interim supplementary rules will not have an annual effect of $100 million or more on the economy. They are not intended to affect commercial activity, but contain rules of conduct for public use of a certain National Conservation Area and adjoining lands. They will not adversely affect, in a material way, the economy, productivity, competition, jobs, the environment, public health or safety, or state, local, or Tribal governments or communities. These interim supplementary rules will not create a serious inconsistency or otherwise interfere with an action taken or planned by another agency. The interim supplementary rules do not materially alter the budgetary effects of entitlements, grants, user fees, or loan programs or the right or obligations of their recipients; nor do they raise novel legal or policy issues. They merely impose certain rules on recreational activities on a limited portion of the public lands in California in order to protect human health, safety, and the environment.

Clarity of the Interim Supplementary Rules

Executive Order 12866 requires each agency to write regulations that are simple and easy to understand. We invite your comments on how to make these interim supplementary rules easier to understand, including answers to questions such as the following:

(1) Are the requirements in the interim supplementary rules clearly stated?

(2) Do the interim supplementary rules contain technical language or jargon that interferes with their clarity?

(3) Does the format of the interim supplementary rules (grouping and order of sections, use of headings, paragraphing, etc.) air or reduce their clarity?

(4) Would the interim supplementary rules be easier to understand if they were divided into more (but shorter) sections?

(5) Is the description of the interim supplementary rules in the SUPPLMENTARY INFORMATION section of this preamble helpful in understanding the interim supplementary rules? How could this description be more helpful in making the interim supplementary rules easier to understand?

Please send any comments you have on the clarity of the interim supplementary rules to the address specified in the ADDRESSES section.

National Environmental Policy Act

These interim supplementary rules themselves do not constitute a major Federal action significantly affecting the quality of the human environment under section 102(2)(C) of the National Environmental Policy Act of 1969, 42 U.S.C. 4332(2)(C). However, they are a component of a larger plan (Resource Management Plan) that constitutes a major Federal action. BLM has prepared a draft environmental impact statement/final environmental impact statement (DEIS/FEIS) on the Resource Management Plan which includes a complete analysis of each decision corresponding to the interim supplementary rules. In addition to this analysis, the interim supplementary rules were directly published in the final EIS. These documents are on file and available to the public in the BLM administrative record at the address specified in the ADDRESSES section. The Record of Decision has also been completed and is also on file at the specified address.

Regulatory Flexibility Act

Congress enacted the Regulatory Flexibility Act (RFA) of 1980, as amended, 5 U.S.C. 601-612, to ensure that Government regulations do not unnecessarily or disproportionately burden small entities. The RFA requires a regulatory flexibility analysis if a rule would have a significant economic impact, either detrimental or beneficial, on a substantial number of small entities. The interim supplementary rules do not pertain specifically to commercial or governmental entities of any size, but to public recreational use of specific public lands. Therefore, BLM has determined under the RFA that these interim supplementary rules would not have a significant economic impact on a substantial number of small entities.

Small Business Regulatory Enforcement Fairness Act (SBREFA)

These interim supplementary rules do not constitute a “major rule” as defined at 5 U.S.C. 804(2). The interim supplementary rules merely contain rules of conduct for recreational use of certain public lands. The interim supplementary rules have no effect on business, commercial, or industrial use of the public lands.

Unfunded Mandates Reform Act

These interim supplementary rules do not impose an unfunded mandate on state, local, or Tribal governments in the aggregate, or the private sector, of more than $100 million per year; nor do they have a significant or unique effect on small governments. These interim supplementary rules do not require anything of state, local, or Tribal governments. Therefore, BLM is not required to prepare a statement containing the information required by the Unfunded Mandates Reform Act (2 U.S.C. 1531 et seq.).

Executive Order 12630, Governmental Actions and Interference With Constitutionally Protected Property Rights (Takings)

The interim supplementary rules are not a government action capable of interfering with constitutionally protected property rights. The interim supplementary rules do not address property rights in any form, and do not cause the impairment of anybody's property rights. Therefore, the Department of the Interior has determined that these interim supplementary rules would not cause a taking of private property or require further discussion of takings implications under this Executive order.

Executive Order 13132, Federalism

The interim supplementary rules will not have a substantial direct effect on the states, on the relationship between the national government and the states, or on the distribution of power and responsibilities among the various levels of government. The interim supplementary rules affect land in only one state, California. The BLM manages recreation use of the state-controlled coastal zone (i.e., the strip of beach below mean high tide, and below mean high water mark within the Mattole River Estuary) of the King Range NCA under a permit granted by the California State Lands Commission. This permit is revocable by the state and does not change the distribution of powers or responsibility between the state and Federal governments. Therefore, BLM has determined that these interim supplementary rules do not have sufficient Federalism implications to warrant preparation of a Federalism Assessment.

Executive Order 12988, Civil Justice Reform

Under Executive Order 12988, the Office of the Solicitor has determined that these interim supplementary rules will not unduly burden the judicial system and that the requirements of sections 3(a) and 3(b)(2) of the Order are met. The supplementary rules include rules of conduct and prohibited acts, but they are straightforward and not confusing, and their enforcement should not unreasonably burden the United States Magistrate who will try any persons cited for violating them.

Executive Order 13175, Consultation and Coordination With Indian Tribal Governments

In accordance with Executive Order 13175, the BLM has found that these interim supplementary rules do not include policies that have Tribal implications. The interim supplementary rules do not affect lands held for the benefit of Indians, Aleuts, or Eskimos. To comply with Executive Orders regarding government-to-government relations with Native Americans, formal and informal contacts were made with the Bear River Band of the Rohnerville Reservation, the Federally-recognized tribal entity for consultation purposes. The tribe was provided with a copy of the draft RMP, and contacted directly by the BLM requesting comments and assessing the need for a tribal briefing. The tribe expressed no concerns about the RMP, or specifically the decisions related to these interim supplementary rules.

Paperwork Reduction Act

These interim supplementary rules do not contain information collection requirements that the Office of Management and Budget must approve under the Paperwork Reduction Act, 44 U.S.C. 3501 et seq. Rules requiring special recreation permits for certain recreational users will involve collection of information contained on BLM Special Recreation Permit form 2930-1. This permit form has been approved under OMB Number 1004-0119.

Author

The principal author of these interim supplementary rules is Bob Wick, Planning and Environmental Coordinator, Arcata Field Office, Bureau of Land Management.

For the reasons stated in the preamble and under the authority for supplementary rules found in 43 CFR 8365.1-6, the California State Director, Bureau of Land Management hereby issues supplementary rules, effective on an interim basis upon publication, for public lands managed by the BLM in the King Range National Conservation Area and adjoining public lands, to read as follows:

Supplementary Rules for the King Range National Conservation Area and Adjoining Public Lands

Sec. 1. Definitions

Backcountry Management Zone—A portion of the management area encompassing approximately 38,833 acres, which is managed under the King Range RMP to protect wilderness characteristics. The Backcountry Management Zone will be delineated on trailhead maps and other visitor information upon institution of the individual special recreation permit program

Camping—The erecting of a tent or shelter of natural or synthetic material, preparing a sleeping bag or other bedding material for use, parking of a motor vehicle, motor home or trailer, or mooring of a vessel for the apparent purpose of overnight occupancy.

Commercial Group—Commercial as defined under 43 CFR 2932.5.

Dispersed use area—Any location outside of a developed campground or away from a motor vehicle access point, where camping visitors cannot store food or other scented items inside a locked vehicle.

Hard sided bear canister—A container made of rigid material of a size and shape that cannot be grasped by the mouth or paws, or otherwise be carried for any significant distance, by bears. The container must also have a closing and latching lid that is tested and proven effective against bears.

Individual permits—A permit will be required for all individual users who access the Backcountry Management Zone for camping use. This requirement will be instituted upon development of a permit registration and processing system by BLM, but no earlier than May 1, 2006 (Authority: 43 CFR 2932.11(b)(1) Special Area Permits).

King Range NCA Management Area—All BLM public lands within the boundaries of the King Range National Conservation Area (NCA), as well as adjoining public lands that were included in the King Range NCA Resource Management Plan planning area. This includes all or portions of the following public land survey sections:

Mount Diablo Meridian, California

T. 24 N., R.19 W, Secs. 4 and 5.

Humboldt Meridian, California

T. 5 S., R.1 E., all sections in township

T. 5 S., R. 2 E., Secs. 5, 6, 7, 19, 30, 31, and 32.

T. 4 S., R.1 W., all sections in township.

T. 4 S., R.1 E., Sections 4, 5 through 9, and 15 through 36.

T. 4 S., R.2 E., Sec. 31.

T. 3 S., R.2 W., Secs. 12 through 16 and 22 through 25.

T. 3 S., R.1 W., Secs. 8, 9, and 12 through 36.

T. 3 S., R.1 E., Secs. 6, 7, 18, 19, and 29 through 32.

T. 2 S., R.2 W., Secs. 4 through 6, 8 through 10, 14 through 23, and 26 through 35

T. 2 S., R.3 W., Secs. 12, 13, 24, 25, and 36.

All references to the “management area” in this document refer to the public lands described above.

Mattole ACEC—A sub-unit of the management area comprised of BLM lands within all or portions of the following public land survey sections:

Humboldt Meridian, California

T. 2 S., R. 2 W., Secs. 17, 18, 31

T. 2 S., R. 3 W., Secs. 12, 13, 24, 25, 36

T. 3 S., R. 2 W., Sec. 6.

Mill Creek ACEC—A sub-unit of the management area comprised of all BLM lands within the Mill Creek watershed including all or portions of the following public land survey sections:

Humboldt Meridian, California

T. 2 S., R. 2 W., Secs. 15, 16, 21, 22, and 28.

Non-commercial organized group—A group that does not meet the definition of commercial under 43 CFR 2932.5. This includes such groups as outdoor clubs, scouts, fraternal organizations and other organizations and group outings where fees paid by participants are limited to a sharing of group expenses. No paid guides accompany the group, and participant fees do not offset other costs of running the organization.

Sierra Interagency Black Bear Group—This group is comprised of Federal agency wildlife biologists and recreation managers from National Parks and National Forests of the Sierra Nevada, where bear/human interface problems are similar to those in the King Range NCA. Their efforts include development and adoption of uniform testing standards and approval protocols for bear-resistant food storage containers. Information on approved canisters can be found at http://www.sierrawildbear.net/, or by contacting the King Range NCA Office at (707) 986-5400.

Sec. 2 Supplementary Rules of Conduct

The following rules apply to all visitors unless explicitly stated otherwise in a particular rule. Employees and agents of the BLM will be exempt from these rules during performance of specific official duties as authorized by the Arcata Field Manager.

a. The Following Supplementary Rules Apply to the Lands Within the Mill Creek ACEC Only

1. The area is open to day-use only from one hour before sunrise to one hour after sunset. Camping is not permitted.

2. Campfires are not permitted.

3. Dogs must be on a leash at all times.

b. The Following Supplementary Rules Apply to Lands Within the Mattole ACEC Only

1. Public lands north of Lighthouse Road and south of the Mattole River for a distance of one mile inland from the Mattole Campground are closed to camping. Public lands along Mattole Beach for 500 feet north and south of the Mattole Campground boundaries (campground boundaries are denoted by the driftwood log barriers surrounding the campground) are also closed to camping.

2. Firewood collecting is generally not permitted, except that you may collect driftwood for campfire use during a stay within the King Range National Conservation Area management area. Driftwood may only be collected with hand tools/saws. No chainsaws or power saws may be used.

3. Use of watercraft with internal combustion engines, including all inboard and outboard motor boats, jet skis and other personal watercraft, is not permitted within the lower Mattole River and Mattole Estuary, where the river traverses public lands (in T. 2 S. R. 2 W., Sections 16, 17, and 18, and T. 2 S., R. 3 W., Section 13).

c. The Following Supplementary Rules Apply to the Entire King Range National Conservation Area Management Area

(1) Backcountry Management Zone Group Size: A maximum of 15 people can enter the Backcountry Management Zone as a group. For groups using stock animals, up to 25 people and stock animals in combination can enter the area. However, no more than 15 of this total can be people.

(2) Backcountry Management Zone Organized Group and Commercial Use Quotas: A maximum number of 30 persons per day in groups that are organized or commercial or both will be allowed to travel into the Backcountry Management Zone from any one trailhead. This use will be allocated on a first come first serve basis as directed in the special recreation permit stipulations.

(3) Bear Canisters: All dispersed use area visitors who are camping are required to carry and use hard-sided bearproof food storage canisters. Canisters must be models approved by the Sierra Interagency Black Bear Group. Information on approved models is available from the BLM. The canisters must be of sufficient size to permit storage of all food, toiletries, sunscreen, surfboard wax, insect repellant, and other scented items for the duration of the trip. Each person must possess a minimum of one canister, and must use the canister to store the above types of items, plus any food scraps and scented trash items such as empty cans, energy bar/candy wrappers, surf wax wrappers, etc. Persons who use pack animals must also use Sierra Interagency Black Bear Group-approved canisters or panniers. These must be of sufficient size to store materials for all party members for the duration of the trip. The requirement to use bear canisters does not apply to camping use within designated campgrounds or camping near vehicles where food can be stored and locked inside the vehicle.

(4) Competitive uses: Competitive uses as defined in 43 CFR 2932.5 (1) and (2) will not be permitted within the Backcountry Management Zone.

(5) Motorized Watercraft Landings: Shore landing of motorized watercraft, including boats, zodiacs, jet skis, and other craft powered with internal combustion engines, is prohibited within the Backcountry Management Zone, except in emergencies. This requirement does not affect offshore anchorages where the watercraft floats freely on the water surface and does not rest on the shoreline or the adjoining ocean bottom.

(6) Non-commercial Organized Group Special Recreation Permits: A special recreation permit is required for all organized groups accessing the management area. (Authority: 43 CFR 2932.11(b)(2) and (3) (i-iii)).

Sec. 3 Penalties

Any person who violates any of these supplementary rules may be tried before a United States Magistrate and fined no more than $1,000 or imprisoned for no more than 12 months, or both. 43 U.S.C. 1733(a); 43 CFR 8360.0-7; 43 CFR 2932.57(b). Such violations may also be subject to the enhanced fines provided for by 18 U.S.C. 3571. You may also be subject to civil action for unauthorized use of the public lands for violations of special recreation permit terms, conditions, or stipulations, or for uses beyond those allowed by the permit, 43 CFR 2932.57(b)(2).

J. Anthony Danne,
Acting State Director.

[FR Doc. E6-7404 Filed 5-23-06; 8:45 am]

BILLING CODE 4310-DK-P